DEPARTMENT OF TRANSPORTATION

Federal Aviation Administration

14 CFR Part 71

[Airspace Docket No. 01AWP29]

Amendment of Honolulu Class E5 Airspace Area Legal Description

AGENCY: Federal Aviation Administration (FAA) DOT.

ACTION: Final rule; correction.

SUMMARY: The Federal Aviation Administration (FAA) published in the Federal Register of January 31, 2002, a document amending the legal description of Honolulu International Airport Class E5 airspace area. The amended description replaced all references to Naval Air Station (NAS Barbers Point with Kalaeloa, John Rogers Field. In this action FAA corrects a spelling error and incorrect coordinates in that amended description.

EFFECTIVE DATE: 0901 UTC, February 21, 2002.

FOR FURTHER INFORMATION CONTACT: Debra Trindle, Airspace Specialist, Airspace Branch, AWP-520.10, Air Traffic Division, Western-Pacific Region, Federal Aviation Administration, 15000 Aviation Boulevard, Lawndale, California 90261, telephone (310) 725-6613.

SUPPLEMENTARY INFORMATION: The FAA published a document in the Federal Register of January 31, 2002, (67 FR 4655) amending the legal description of the Honolulu International Airport Class E5 airspace area. In FR Doc. 02-862, published in the Federal Register of January 31, 2002, the amended description of the Honolulu International Airport Class E5 airpace area replaced all references to Naval Air Station (NAS) Barbers Point with Kalaeloa, John Rogers Field. John Rogers Field was inadvertently misspelled. The correct spelling should be John Rodgers Field. Also, three coordinates listed in the legal description for the Honolulu International Airport Class E5 airspace area were incorrect. This document corrects the spelling error and incorrect coordinates.

Class E airpace areas extending upward from 700 feet or more above the surface of the earth are published in paragraph 6005 of FAA Order 7400.9J dated August 31, 2001, and effective September 16, 2001, which is incorporated by reference in 14 CFR 71.1. The correct class E5 airspace designation listed in this document will be published subsequently in the order.

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follow:

Authority: 49 U.S.C. 106(g), 40103, 40113, 40120; E.O. 10854, 24 FR 9574, 3 CFR 1959-1963 Comp., p. 389.

§ 71.1 [Corrected]

2. The incorporation by reference in 14 CFR 71.1 of the Federal Aviation Administration Order 7400.9J, Airspace Designations and Reporting Points, dated August 31, 2001, and effective September 16, 2001, is amended as follows:

Paragraph 6005 Class E Airspace Areas Extending Upward From 700 Feet or More Above the Surface of the Earth

* * * * *

AWP HI E5 Honolulu International Airport, HI [Corrected]

Honolulu International Airport, HI

(Lat 21°19′07″N., long. 157°55′21″W.)

Kalaeloa John Rodgers Field

(Lat 21°18′26″N., long. 158°04′13″W.)

Honolulu VORTAC

(Lat 21°18′30″N., long. 157°55′50″W.)

That airspace extending upward from 700 feet above the surface south and southeast of Honolulu International Airport beginning at lat. 21°20′19″N., long 157°51′05″W., thence south to lat. 21°15′19″N., long. 157°49′05″W., thence east along the shoreline to where the shoreline intercepts the Honolulu VORTAC 15-mile radius, then clockwise along the 15-mile radius of the Honolulu VORTAC to intercept the Honolulu VORTAC 241° radial, then northeast bound along the Honolulu VORTAC 241° radial to intercept the 4.3-mile radius south of Kalaeloa John Rodgers Field, then counterclockwise along the arc of the 4.3-mile radius of Kalaeloa John Rodgers Field to and counterclockwise along the arc of a 5-mile radius of the Honolulu VORTAC to the Honolulu VORTAC 106° radial, then westbound along the Honolulu 106° radial to the 4-mile radius of the Honolulu VORTAC, then counterclockwise along the 4-mile radius to intercept the Honolulu VORTAC 071° radial, thence to the point of beginning and that airspace beginning at lat. 21°10′25″N., long. 158°11′22″W.; to lat 21°16′05″N., long. 158°14′35″W.; to lat. 21°16′30″N., long. 158°13′46″W.; to lat 21°16′50″N., long. 158°00′00″W., to the point of beginning.

* * * * *

Issued in Los Angeles, California, on March 22, 2002.
John Clancy,
Manager, Air Traffic Division, Western-Pacific Region.

[FR Doc. 02-9118 Filed 4-19-02; 8:45 am]

BILLING CODE 4910-13-M